Proclamation 10585 of May 19, 2023

Armed Forces Day, 2023

By the President of the United States of America

A Proclamation

On Armed Forces Day, we honor all the members of our Army, Navy, Air Force, Marine Corps, Space Force, Coast Guard, and National Guard and Reserve forces. United by a common call to serve, these brave patriots not only comprise the finest fighting force the world has ever known but also represent the very best of our Nation.

Today, less than 1 percent of Americans currently wear the uniform—stepping up to defend the other 99 percent of our Nation with honor and courage. Through trials and testing as well as dangers and deployments, our service members remain resilient and resolved in their mission. They—and their families, caregivers, and survivors—also shoulder unique burdens, serving and sacrificing for our Nation's core values: freedom, democracy, and liberty. And this year, as we mark the 50th anniversary of our all-volunteer force and the 75th anniversaries of a desegregated military and women's integration, we are reminded that our Armed Forces are stronger and more capable than ever because of the diverse range of skillsets and experiences of our service members.

On Armed Forces Day, we also renew our sacred obligation to all those who serve: to prepare them when we send them into harm's way and care for them and their families while they are deployed and when they return home. That is exactly what my Administration is doing. I have signed more than 25 bipartisan bills, including the PACT Act—the most significant law in our Nation's history to help millions of veterans who were exposed to toxic fumes from burn pits or other toxic substances during their military service—to ensure our service members and veterans and their families, caregivers, and survivors get the support they deserve. We have also expanded access to mental health care for our service members and veterans—a critical step in reducing suicides, which continue to claim far too many lives of our military members. My Administration has also worked to fix the Public Service Loan Forgiveness program—a key step in meeting our commitment to service members and those who have chosen other professions in public service. To date, we have helped over 450,000 borrowers who work in public service, including service members, get nearly $31 billion in student loan forgiveness. And, through the First Lady's Joining Forces initiative, we are helping military spouses find good-paying jobs, ensuring military-connected children are supported in their classrooms, and aiding this community with resources to improve their health and well-being.

Our Nation also has an obligation to ensure that every service member—regardless of gender, gender identity, sexual orientation, race, or religious background—feels safe in the ranks and has their contributions fully valued. Within my first month in office, I was proud to rescind the ban on openly transgender people serving in the military because no patriot should be barred from serving their country for being their authentic self. My Administration worked with the Congress to reform how the military investigates and prosecutes sexual assault, sexual harassment, domestic violence, and other related crimes, including by shifting authority from commanders to independent prosecutors. Working with leaders across the Department of Defense, I will continue to ensure that a culture of decency and respect always prevails within our ranks—including speaking out and standing up against harassment, abuse, and hate in all its forms.

Throughout our history, America's Armed Forces have been sentinels of liberty and defenders of dignity. By keeping the flame of freedom burning bright, they have made our Nation stronger and the world safer. So today, let us all join together in honoring their courage, sacrifice, and service.

NOW, THEREFORE, I, JOSEPH R. BIDEN JR., President of the United States of America, and Commander in Chief of the Armed Forces of the United States, continuing the precedent of my predecessors in office, do hereby proclaim the third Saturday of each May as Armed Forces Day.

I direct the Secretary of Defense, on behalf of the Army, Navy, Air Force, Marine Corps, Space Force, and the Secretary of Homeland Security on behalf of the Coast Guard, to plan for appropriate observances each year, with the Secretary of Defense responsible for soliciting the participation and cooperation of civil authorities and private citizens. I invite the Governors of the States, the Commonwealth of Puerto Rico, and other areas subject to the jurisdiction of the United States to provide for the observance of Armed Forces Day within their respective jurisdictions each year in an appropriate manner designed to increase public understanding and appreciation of the Armed Forces of the United States. I also invite veterans, civic leaders, and other organizations to join in the observance of Armed Forces Day each year.

Finally, I call upon all Americans to display the flag of the United States at their homes and businesses on Armed Forces Day, and I urge citizens to learn more about military service by attending and participating in the local observances of the day.

Proclamation 10400 of May 20, 2022, is hereby superseded.

IN WITNESS WHEREOF, I have hereunto set my hand this nineteenth day of May, in the year of our Lord two thousand twenty-three, and of the Independence of the United States of America the two hundred and forty-seventh.

[FR Doc. 2023-11208

Filed 5-23-23; 8:45 am]

Billing code 3395-F3-P